DEPARTMENT OF LABOR

Employment and Training Administration

Proposed Information Collection Request Submitted for Sixty Days' Public Comment; O*NET Data Collection Program, Extension of Currently Approved Collection Without Change

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA 95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the O*NET (Occupational Information Network) Data Collection Program. A copy of the proposed information collection request (ICR) can be obtained by contacting the office listed below in the addressee section of this notice or by accessing: http://www.doleta.gov/OMBCN/OMBControlNumber.cfm.

DATES: Written comments must be submitted to the office listed in the addressee's section below on or before July 15, 2008.

ADDRESSES: Submit written comments to the Employment and Training Administration, 200 Constitution Avenue, NW., Room S-4231, Washington, DC 20210, Attention: Pam Frugoli, Telephone number: 202-693-3643 (this is not a toll-free number). Fax: 202-693-3015. E-mail: O*NET@doleta.gov.

SUPPLEMENTARY INFORMATION:

I. Background

The O*NET Data Collection Program is a continuing effort to collect and maintain current information on detailed characteristics of occupations and skills for over 800 occupations. The resulting database is and will continue to be the most comprehensive standard source of occupational and skills information in the nation. O*NET information is used by a wide range of audiences, from individuals making career decisions, to public agencies and schools providing career exploration services and planning workforce investment programs, to businesses making staffing and training decisions. The O*NET system provides a common language, framework and database to meet the administrative needs of various federal programs, including workforce investment and training programs of the Departments of Labor, Education, and Health and Human Services.

Section 309 of the Workforce Investment Act requires the Secretary of Labor to oversee the “development, maintenance, and continuous improvement of a nationwide employment statistics system” which shall include, among other components, “skill trends by occupation and industry.” The States are to develop similar statewide employment statistics systems.

The O*NET Data Collection Program is the primary vehicle for collecting skills and occupational information across all occupations nationwide. The continued population and completion of the entire O*NET database is a critical component of the nationwide labor market information system to support employer, workforce, and education information needs.

O*NET succeeds the Dictionary of Occupational Titles (DOT) and is a powerful tool for various critical federal and state workforce investment functions. O*NET integrates a powerful relational database and a common language for occupational and skill descriptions into a value-added tool for business, job seekers, and the workforce investment professionals who help bring them together. By providing information organized according to the O*NET Content Model, the O*NET database is an important tool for keeping up with today's rapidly changing world of work. The O*NET database provides:

• Detailed information for more than 800 occupations.

• Descriptive information on standardized descriptors of skills, abilities, interests, knowledge, work values, education, training, work context, and work activities.

• Occupational coding based on the 2000 Standard Occupational Classification (SOC).

The O*NET electronic database serves as the underpinning for hundreds of publicly and privately developed products and resources in the marketplace and can be found at http://www.onetcenter.org/database.html. These products and resources are being used to serve millions of customers.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension.

Agency: Employment and Training Administration.

Title: O*NET Data Collection Program.

OMB Number: 1205-0421.

Affected Public: Business/Employers (includes private and not-for-profit businesses and government); individuals (incumbent workers, subject-matter experts).

Form: O*NET Data Collection Program.

Total Respondents: 85,780.

Frequency: Annual.

Total Responses: 85,780.

Average Time Per Response: Employer response time is 70 minutes. Incumbent worker response time is 30 minutes. Subject-matter expert response time is 2 hours.

Estimated Total Burden Hours: 43,857.

Total Burden Cost: $1,355,266.

Comments submitted in response to this comment request will be summarized and/or included in the request for the Office of Management and Budget approval of the information collection request. They will also become a matter of public record.

Signed: At Washington, DC, this 8th day of May, 2008.
Gay M. Gilbert,
Administrator, Office of Workforce Investment, Employment & Training Administration.

[FR Doc. E8-10934 Filed 5-15-08; 8:45 am]

BILLING CODE 4510-FN-P